DEPARTMENT OF THE INTERIOR

National Park Service

Notice of Intent to Repatriate Cultural Items: U.S. Department of Agriculture, Forest Service, Gila National Forest, Silver City, NM; Arizona State Museum, University of Arizona, Tucson, AZ; and Logan Museum of Anthropology, Beloit College, Beloit, WI

AGENCY: National Park Service, Interior.

ACTION: Notice.

Notice is here given in accordance with the Native American Graves Protection and Repatriation Act (NAGPRA), 25 U.S.C. 3005, of the intent to repatriate cultural items in the control of the U.S. Department of Agriculture, Forest Service, Gila National Forest, Silver City, NM, and in the physical custody of the Arizona State Museum, University of Arizona, Tucson, AZ, and Logan Museum of Anthropology, Beloit College, Beloit, WI, that meet the definition of “unassociated funerary objects” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

In 1933, cultural items were removed from the Mogollon Village site in Gila National Forest, Catron County, NM, during legally authorized excavations and collections conducted by Dr. Emil Haury of the Gila Pueblo Foundation. The 14 cultural items found with or near Native American human remains include 1 pottery bowl, 1 stone bowl, 4 projectile points, 2 stone tools, 1 tubular bead, 3 shell bracelet fragments, and 2 mineral pieces. In 1950, the Gila Pueblo Foundation transferred the cultural items to the Arizona State Museum. Material culture, architecture, and site organization indicate that the Mogollon Village site is an Upland Mogollon pithouse village occupied between A.D. 600-1050.

In 1935, cultural items were removed from Geronimo Canyon Ruin in Gila National Forest, Catron County, NM, during legally authorized excavations and collections conducted by Paul H. Nesbitt of Logan Museum of Anthropology, Beloit College. The 19 cultural items are 12 pottery bowls, 3 pottery jars, 3 pottery pitchers, and 1 pottery olla. Based on material culture, Geronimo Canyon Ruin has been identified as an Upland Mogollon site occupied before A.D. 1300.

Between 1935 and 1936, cultural items were removed from the Starkweather Ruin in Gila National Forest, Catron County, NM, during legally authorized excavations and collections conducted by Paul H. Logan Museum of Anthropology, Beloit College. The 13 cultural items found with or near Native American human remains include 5 pottery bowls, 3 strands of clay and shell beads, 1 shell necklace, 1 strand of clay beads, 1 bunch of shell beads from a necklace, 1 shell bracelet, and 1 bunch of turquoise beads and pendants from a necklace. Material culture, architecture, and site organization indicate that Starkweather Ruin is an Upland Mogollon pithouse village occupied between A.D. 1100-1300.

Between 1947 and 1949, cultural items were removed from the Jewett Gap site in Gila National Forest, Catron County, NM, during excavations conducted by J.S. Deric O'Bryan of the Gila Pueblo Foundation. In 1950, the Gila Pueblo Foundation transferred the cultural items to Arizona State Museum. The 909 cultural items are 190 pottery vessels, 608 shell beads, 8 shell bracelets, 5 shell pendants, 3 pebbles, 1 piece of shell, 1 piece of bone, 7 projectile points, 2 projectile point fragments, 2 stone awls, 1 stone axe, 73 pieces of chipped stone, 7 pieces of malachite, and 1 crystal. Based on material culture, architecture and site organization, the Jewett Gap site has been identified as an Upland Mogollon pueblo occupied between A.D. 600-1050.

The territory of the Upland Mogollon stretched from south-central Arizona to south-central New Mexico. The Upland Mogollon territories are claimed, currently inhabited, or used by the Pueblo of Acoma, New Mexico; Hopi Tribe of Arizona; and Zuni Tribe of the Zuni Reservation,New Mexico. Villages had pithouses or pueblo-style houses. Most archeological evidence linking Upland Mogollon to present-day tribes rely on ceramics, which suggest the early establishment of brownware producing groups. Based on material culture, architecture, and site organization each of the four sites (Jewett Gap, Mogollon Village, Geronimo Ruin Canyon and Starkweather ruin) have been identified as Upland Mogollon villages occupied between A.D. 500-1300. Present-day descendents of the Upland Mogollon are the Pueblo of Acoma, New Mexico; Hopi Tribe of Arizona; and Zuni Tribe of the Zuni Reservation. Oral traditions presented by representatives of the Pueblo of Acoma, New Mexico; the Hopi Tribe of Arizona; and Zuni Tribe of the Zuni Reservation, New Mexico support cultural affiliation.

The Department of Agriculture, Forest Service controls all cultural items removed from the Gila National Forest sites, and acknowledges that they are housed and in the physical custody of Arizona State Museum and Logan Museum of Anthropology, Beloit College.

Officials of the U.S. Department of Agriculture, Forest Service, Gila National Forest have determined that, pursuant to 25 U.S.C. 3001 (3)(B), the 955 cultural items described above are reasonably believed to have been placed with or near individual human remains at the time of death or later as part of the death rite or ceremony and are believed, by a preponderance of the evidence, to have been removed from a specific burial site of an Native American individual. Officials of the U.S. Department of Agriculture, Forest Service, Gila National Forest also have determined that, pursuant to 25 U.S.C. 3001 (2), there is a relationship of shared group identity that can be reasonably traced between the unassociated funerary objects from the four Upland Mogollon sites and the Pueblo of Acoma, New Mexico; the Hopi Tribe of Arizona; and the Zuni Tribe of the Zuni Reservation, New Mexico.

Representatives of any other Indian tribe that believes itself to be culturally affiliated with the unassociated funerary objects should contact Dr. Frank E. Wozniak, NAGPRA Coordinator, Southwestern Region, U.S. Department of Agriculture, Forest Service, 333 Broadway Boulevard, SE, Albuquerque, NM 87102, telephone (505) 842-3238, before July 1, 2005. Repatriation of the unassociated funerary objects to the Pueblo of Acoma, New Mexico; the Hopi Tribe of Arizona; and the Zuni Tribe of the Zuni Reservation, New Mexico may proceed after that date if no additional claimants come forward.

The U.S. Department of Agriculture, Forest Service, Gila National Forest is responsible for notifying the Pueblo of Acoma, New Mexico; the Hopi Tribe of Arizona; and the Zuni Tribe of the Zuni Reservation, New Mexico that this notice has been published.

Dated: May 20, 2005.
Paul Hoffman,
Deputy Assistant Secretary, Fish and Wildlife and Parks.

[FR Doc. 05-10805 Filed 5-31-05; 8:45 am]

BILLING CODE 4312-50-S